DEPARTMENT OF COMMERCE

National Oceanic and Atmospheric Administration

[I.D. 121504B]

Endangered Species; Permits

AGENCY: National Marine Fisheries Service (NMFS), National Oceanic and Atmospheric Administration (NOAA), Commerce.

ACTION: Issuance of permit for incidental take of threatened species.

SUMMARY: Notice is hereby given that on June 9, 2005, as authorized by the provisions of the Endangered Species Act, NMFS issued a permit (PRT-1488) to the Humboldt Bay Municipal Water District, Eureka, California subject to certain conditions set forth therein. The permit was granted only after NMFS determined that it was applied for in good faith, that granting the permit will not be to the disadvantage of the threatened species, and that it will be consistent with the purposes and policy set forth in the Endangered Species Act, as amended.

DATES: Effective June 9, 2005 through June 9, 2055.

ADDRESSES: Additional information on this permit action may be requested by contacting NOAA Fisheries, 1655 Heindon Road, Arcata, CA 95521 (phone: 707-825-5160, fax: 707-825-4840). The applications and related documents are available for review in the indicated office, by appointment.

FOR FURTHER INFORMATION CONTACT: John P. Clancy, Arcata, CA (phone: 707-825-5175, fax: 707-825-4840, e-mail: John.P.Clancy@noaa.gov).

SUPPLEMENTARY INFORMATION: On August 1, 2003, a notice was published in the Federal Register (68 FR 148, August 1, 2003), that an application had been filed with the National Marine Fisheries Service by the Humboldt Bay Municipal Water District, Eureka, California, for a permit to incidentally take, pursuant to Section 10(a)(1)(B) of the Endangered Species Act of 1973 (16 U.S.C. 1539), as amended, Southern Oregon/Northern California Coasts Coho Salmon (Oncorhynchus kisutch), California Coastal Chinook Salmon (Oncorhynchus tshawytscha), and Northern California steelhead (Oncorhynchus mykiss) on the Mad River pursuant to the terms of the Humboldt Bay Municipal Water District Habitat Conservation Plan for its Mad River Operations.

Dated: June 21, 2005.
Susan Pultz,
Acting Division Chief, Office of Protected Resources, National Marine Fisheries Service.

[FR Doc. 05-12755 Filed 6-27-05; 8:45 am]

BILLING CODE 3510-22-S